DEPARTMENT OF HOUSING AND URBAN DEVELOPMENT

[Docket No. FR-4995-N-06]

Final Fair Market Rents for the Housing Choice Voucher Program and Moderate Rehabilitation Single Room Occupancy Program for Fiscal Year 2006; Additional Revision

AGENCY: Office of the Assistant Secretary for Policy Development and Research, HUD.

ACTION: Notice of Final Fair Market Rents (FMRs) for Fiscal Year 2006, Additional Revision.

SUMMARY: This notice updates the FMRs for the metropolitan areas of Aquadilla, Arecibo, Barranquitas, Caguas, Fajardo, Guayama, Ponce, and San Juan, PR.

DATES: Effective Date: June 2, 2006.

FOR FURTHER INFORMATION: For technical information on the methodology used to develop FMRs or a listing of all FMRs, please call the HUD USER information line at (800) 245-2691 or access the information on the HUD Web site, http://www.huduser.org/datasets/fmr.html. FMRs are listed at the 40th or 50th percentile in Schedule B. For informational purposes, a table of 40th percentile recent mover rents for those areas currently at the 50th percentile FMRs will be provided on the same website noted above. Any questions related to use of FMRs or voucher payment standards should be directed to the respective local HUD program staff. Persons with hearing or speech impairments may access this number through TTY by calling the toll-free Federal Information Relay Service at (800) 877-8339. (Other than the HUD USER information line and TTY numbers, telephone numbers are not toll-free.)

Update

In response to numerous public comments about Puerto Rico's FY2006 FMRs, HUD conducted a detailed analysis of the Random Digit Dialing rent surveys (RDDs) that were used in setting Puerto Rico's FY2006 FMRs. According to the RDD surveys, 57 percent of all Puerto Rico rental units lacked hot and cold piped water in the kitchen, which makes them substandard units that would be ineligible for inclusion in the voucher program. HUD also compared the housing characteristics of the RDD sample with detailed information from the 2000 Census to correct for sampling bias. The bias occurs because HUD can only survey land-line telephones and yet, in Puerto Rico, there is a greater percentage of households using cell-phones instead of land-line telephones compared to the United States. A detailed analysis of the RDD surveys and weighting corrections to compensate for these factors produces changes in the FY2006 FMR estimates that HUD is implementing with this notice.

FMRs for the affected areas are increased as follows:

2006 Fair market rent area | Number of bedrooms: 0 BR | Number of bedrooms: 1 BR | Number of bedrooms: 2 BR | Number of bedrooms: 3 BR | Number of bedrooms: 4 BR
Aguadilla-Isabela-San Sebastian, PR MSA | $300 | $325 | $361 | $464 | $519
Arecibo, PR HMFA | 316 | 343 | 381 | 520 | 609
Barranquitas-Aibonito-Quebradillas, PR HMFA | 311 | 336 | 374 | 476 | 547
Caquas, PR MSA | 347 | 375 | 418 | 579 | 698
Fajardo, PR MSA | 360 | 392 | 435 | 632 | 763
Guayama, PR MSA | 316 | 341 | 380 | 539 | 668
Ponce, PR MSA | 368 | 399 | 442 | 614 | 700
San Juan-Guaynabo, PR HMFA | 385 | 419 | 465 | 607 | 723

Dated: May 24, 2006.
Darlene F. Williams,
Assistant Secretary for Policy, Development and Research.

[FR Doc. E6-8532 Filed 6-1-06; 8:45 am]

BILLING CODE 4210-67-P